DEPARTMENT OF COMMERCE

International Trade Administration

[A-570-894, A-570-895]

Certain Tissue Paper Products and Certain Crepe Paper Products From the People's Republic of China: Postponement of the Preliminary Determinations of the Antidumping Investigations

AGENCY: Import Administration, International Trade Administration, Department of Commerce.

SUMMARY: The Department of Commerce (“the Department”) is postponing the preliminary determinations in the antidumping investigations of certain tissue paper products and certain crepe paper products from the People's Republic of China (“PRC”) until no later than September 14, 2004. This postponement is made pursuant to section 733(c)(1)(B) of the Tariff Act of 1930, as amended (“the Act”).

EFFECTIVE DATE: September 1, 2004.

FOR FURTHER INFORMATION CONTACT: John Conniff or Alex Villanueva, at (202) 482-1009 or (202) 482-3208, respectively, Import Administration, International Trade Administration, U.S. Department of Commerce, 14th Street and Constitution Avenue, NW., Washington, DC 20230.

SUPPLEMENTARY INFORMATION:

Background

On March 8, 2004, the Department initiated antidumping investigations of imports of certain tissue paper products and certain crepe paper products from the PRC. See Notice of Initiation of Antidumping Duty Investigations: Certain Tissue Paper Products and Certain Crepe Paper Products from the People's Republic of China, 69 FR 12128 (March 15, 2004) (“Initiation Notice”). Section 733(b) of the Act requires the Department to make a preliminary determination no later than 140 days after the date of initiation. On July 12, 2004, the Department extended the preliminary determinations of the certain tissue paper and certain crepe paper products from PRC investigations in accordance with Section 733(c)(1)(B) of the Act. See Postponement of Preliminary Determinations of Antidumping Duty Investigations: Certain Tissue Paper Products and Certain Crepe Paper Products from PRC 69 FR 41785 (July 12, 2004). The preliminary determinations in the investigation of certain tissue paper and certain crepe paper products from PRC are now due not later than August 25, 2004.

Postponement of Preliminary Determinations

As discussed below, we have determined that these investigations are extraordinarily complicated within the meaning of section 733(c)(1)(B)(i) of the Act. Furthermore, we have determined that the parties concerned are cooperating, as required by section 733(c)(1)(B) of the Act, and that additional time is necessary to make these preliminary determinations in accordance with section 733(c)(1)(B)(ii) of the Act.

In the investigation of certain tissue paper products, one of the respondents has submitted complex reporting methodologies for its factors of production (“FOPs”), which require detailed analysis by the Department. In addition, the Department may require additional information from the mandatory respondents for this preliminary determination. The Department can only complete its analysis and gather all of the necessary information by postponing the preliminary determination.

In the investigation of certain crepe paper products, the Department requires additional time to evaluate the section A responses and relevant information on the record so as to determine the appropriate margin for the section A respondents.

Therefore, it is the Department's decision to postpone the current preliminary determinations so that all of the issues currently under investigation at this time can be addressed in the most complete manner possible.

For the reasons identified above, we are postponing the preliminary determinations under section 733(c)(1)(B) of the Act, to no later than September 14, 2004, the 190th day after the date on which the investigation was initiated. The deadline for the final determinations will continue to be 75 days after the date of the preliminary determinations. This notice is issued and published pursuant to sections 733(c)(2), 733(f) and 777(i) of the Act.

Dated: August 25, 2004.
Joseph A. Spetrini,
Acting Assistant Secretary for Import Administration.

[FR Doc. E4-2004 Filed 8-31-04; 8:45 am]

BILLING CODE 3510-DS-P